DEPARTMENT OF ENERGY

Hydrogen and Fuel Cell Technical Advisory Committee (HTAC)

AGENCY: Department of Energy, Office of Energy Efficiency and Renewable Energy.

ACTION: Notice of open meeting.

SUMMARY: The Hydrogen and Fuel Cell Technical Advisory Committee (HTAC) was established under section 807 of the Energy Policy Act of 2005 (EPAct) (Pub. L. 109-58; 119 Stat. 849). The Federal Advisory Committee Act (Pub. L. 92-463, 86 Stat. 770) requires that publish notice of these meetings be announced in the Federal Register.

DATES: Thursday, November 3, 2011; 9 a.m.-6:15 p.m.

Friday, November 4, 2011; 9 a.m.-2:45 p.m.

ADDRESSES: L'Enfant Plaza Hotel DC, 480 L'Enfant Plaza, SW., Washington, DC 20024.

FOR FURTHER INFORMATION CONTACT: Please send an e-mail to: HTAC@nrel.gov

SUPPLEMENTARY INFORMATION: Purpose of the Meeting: To provide advice, information, and recommendations to the Secretary on the program authorized by Title VIII of EPAct.

Tentative Agenda: (Subject to change; updates will be posted on the website at: http://hydrogen.energy.gov and copies of the final agenda will available the date of the meeting).

• Public Comment.

• Coordination with Efficiency and Renewable Advisory Committee.

• Impact of Natural Gas Supply on Fuel Cell and Hydrogen Market.

• Industry Presentations.

• Status Cost and Performance of Battery Technology.

• Vehicle Battery Charging Cost.

• European Large-Scale Hydrogen Storage of Renewable Electricity.

• Financing Hydrogen and Fuel Cell Technologies.

• State Initiatives.

Public Participation: Members of the public are welcome to observe the business of the meeting of HTAC and to make oral statements during the specified period for public comment. The public comment period will take place between 9:15 a.m. and 9:30 a.m. on November 3, 2011. To attend the meeting and/or to make oral statements regarding any of the items on the agenda, please send an e-mail to: HTAC@nrel.gov at least five business days before the meeting. Please indicate if you will be attending the meeting, whether you want to make an oral statement, and what organization you represent (if appropriate). Members of the public will be heard in the order in which they sign up for the public comment period. Oral comments should be limited to two minutes in length. Reasonable provision will be made to include the scheduled oral statements on the agenda. The Chair of the committee will make every effort to hear the views of all interested parties and to facilitate the orderly conduct of business. If you would like to file a written statement with the committee, you may do so either by submitting a hard copy at the meeting or by submitting an electronic copy by e-mail to: HTAC@nrel.gov.

Minutes: The minutes of the meeting will be available for public review at the following Web site: http://hydrogen.energy.gov.

Issued at Washington, DC on September 23, 2011.
LaTanya R. Butler,
Acting Deputy Committee Management Officer.

[FR Doc. 2011-25058 Filed 9-28-11; 8:45 am]

BILLING CODE 6450-01-P